DEPARTMENT OF HOUSING AND URBAN DEVELOPMENT

Office of the Secretary

[Docket No. FR-5500-FA-23]

Announcement of Funding Awards for Fiscal Year 2011; Doctoral Dissertation Research Grant Program

AGENCY: Office of the Assistant Secretary for Policy Development and Research, HUD.

ACTION: Announcement of funding awards.

SUMMARY: In accordance with Section 102(a)(4)(C) of the Department of Housing and Urban Development Reform Act of 1989, this document notifies the public of funding awards for the Fiscal Year (FY) 2011 Doctoral Dissertation Research Grant (DDRG) Program. The purpose of this document is to announce the names and addresses of the award winners and the amount of the awards to be used to help doctoral candidates complete dissertations on topics that focus on housing and urban development issues.

FOR FURTHER INFORMATION CONTACT: Susan Brunson, Office of University Partnerships, U.S. Department of Housing and Urban Development, Room 8226, 451 Seventh Street, SW., Washington, DC 20410, Telephone (202) 402-3852. To provide service for persons who are hearing- or speech-impaired, this number may be reached via TTY by dialing the Federal Information Relay Service on (800) 877-8339 or (202) 708-1455. (Telephone numbers, other than “800” TTY numbers, are not toll free).

SUPPLEMENTARY INFORMATION: The DDRG Program was created as a means of expanding the number of researchers conducting research on subjects of interest to HUD. Doctoral candidates can receive grants of up to $25,000 to complete work on their dissertations. Grants are awarded for a two-year period. The Office of University Partnerships under the Assistant Secretary for Policy Development and Research (PD&R) administers this program. In addition to this program, the Office of University Partnerships administers HUD's ongoing grant programs to institutions of higher education as well as creates initiatives through which colleges and universities can bring their traditional missions of teaching, research, service, and outreach to bear on the pressing local problems in their communities.

The Catalog of Federal Domestic Assistance number for this program is 14.517.

On May 24, 2011, a Notice of Funding Availability (NOFA) for this program was posted on Grants.gov announcing the availability of $400,000 in FY 2011 for the DDRG Program. The Department reviewed, evaluated and scored the applications received based on the criteria in the NOFA. As a result, HUD has funded the applications announced below, and in accordance with Section 102(a)(4)(C) of the Department of Housing and Urban Development Reform Act of 1989 (103 Stat. 1987, U.S.C. 3545). More information about the winners can be found at http://www.oup.org.

Dated: September 9, 2011.
Raphael W. Bostic,
Assistant Secretary for Policy Development and Research.

Attachment

List Of Awardees For Grant Assistance Under The Fiscal Year (FY) 2011 Doctoral Dissertation Research Grant Program Funding Competition, By Institution, Address, Grant Amount And Name Of Student Funded

1. Research Foundation/CUNY for the Graduate Center/CUNY, Dr. Leith Mullings, Research Foundation/CUNY for the Graduate Center/CUNY, 365 Fifth Avenue, New York, NY 10016. Grant: $24,997 to Karen Williams.

2. Loyola University, Dr. Marilyn Krogh, Loyola University, 1032 West Sheridan Road, Chicago, IL 60660. Grant: $25,000 to Julie Hilvers.

3. The George Washington University, Mr. Edward Berkowitz, The George Washington University, 2121 I Street, NW., Suite 601, Washington, DC 20052. Grant: $25,000 to Bell Clement.

4. Ohio State University, Dr. Phyllis Pirie, Ohio State University, 1960 Kenny Road, Columbus, OH 43210. Grant: $24,949 to Nancy Hood.

5. President and Fellows of Harvard University, Ms. Kathryn Edin, President and Fellows of Harvard University, 1350 Massachusetts Avenue, Cambridge, MA 02138. Grant: $25,000 to Eva Rosen.

6. New York University, Dr. Ingrid Gould Ellen, New York University, 665 Broadway, Suite 801, New York, NY 10112. Grant: $25,000 to Michael Gedal.

7. The Board of Trustees of the University of Illinois, Mr. David Perry, The Board of Trustees of the University of Illinois, 809 S. Marshfield Avenue, Chicago, IL 60612. Grant: $24,115 to Carrie Menendez.

8. Brandeis University, Mr. Thomas Shapiro, Brandeis University, 415 South Street, Waltham, MA 02454. Grant: $25,000 to Tanja Kubas-Meyer.

9. University of North Carolina at Chapel Hill, Mr. William Rohe, University of North Carolina at Chapel Hill, 104 Airport Drive, Ste. 2200 CB# 1350, Chapel Hill, NC 27599. Grant: $24,964 to Hye-Sung Han.

10. University of Maryland Baltimore, Ms. Julianne Oktay, University of Maryland Baltimore, 620 West Lexington Street, 4th Floor, Baltimore, MD 21201. Grant: $20,386 to Kathleen Powell.

11. The Regents of the University of California, Ms. Elizabeth Deakin, The Regents of the University of California, 2150 Shattuck Avenue, Suite 300, Berkeley, CA 94704. Grant: $24,907 to Carrie Makarewicz.

12. Loyola University, Mr. Philip Nyden, Loyola University, 1032 West Sheridan Road, Chicago, IL 60660. Grant: $25,000 to Reuben Miller.

13. The Board of the Regents of the University of Wisconsin System, Ms. Kris Olds, The Board of the Regents of the University of Wisconsin System, 21 N. Park Street, Suite 6401, Madison, WI 53715. Grant: $24,865 to Darrel Ramsey-Musolf.

14. Temple University, Mr. Jermey Mennis, Temple University, 1938 Liacouras Walk, 2nd Floor, Philadelphia, PA 19122. Grant: $25,000 to Megan Heckert.

15. Louisiana State University A & M College. Mr. Timothy Page, Louisiana State University A & M College, 202 Himes Hall, Baton Rouge, LA 70803. Grant: $25,000 to Mary Ellen Brown.

16. University of New Orleans, Dr. Renia Ehrenfeucht, University of New Orleans, 2000 Lakeshore Drive, New Orleans, LA 70148. Grant: $17,075 to Kelly Owens.

17. Research Foundation/CUNY for the Graduate Center/CUNY, Dr. Leith Mullings, Research Foundation/CUNY for the Graduate Center/CUNY, 365 Fifth Avenue, New York, NY 10016. Grant: $13,742 to Amy Starecheski.

[FR Doc. 2011-24037 Filed 9-19-11; 8:45 am]

BILLING CODE P